DEPARTMENT OF HEALTH AND HUMAN SERVICES

Agency for Healthcare Research and Quality

Availability of Draft Public Health Service (PHS) Clinical Practice Guideline Update on Treating Tobacco Use and Dependence

AGENCY: Agency for Healthcare Research and Quality, HHS.

ACTION: Notice for pre-publication review and comment.

SUMMARY: The Agency for Healthcare Research and Quality (AHRQ) announces the availability of a draft Public Health Service clinical practice guideline Update on Treating Tobacco Use and Dependence for pre-publication review. This PHS guideline update is being produced by a multidisciplinary private-sector panel of experts convened by the agencies of the Public Health Service. The expert panel will not respond to individual comments but will consider all comments in determining revisions to the guideline.

DATES: Comments must be postmarked by October 26, 2007.

Request for Draft PHS Guideline Update

To receive a copy of the draft guideline update, requests must include: Requester's name; Affiliation (business or organization); Address (including zip code); Telephone and Fax numbers. This is a draft document. Since changes are likely to be made to the draft guideline update during the review process this draft document should not be used as a clinical practice guideline until final publication. It is anticipated that the final guideline update will be made available to the public in the spring of 2008.

You will be mailed a printed DRAFT copy of the draft guideline update and sent by e-mail: (1) An electronic form to submit any comments and (2) a short conflict of interest form to be completed by those submitting comments.

ADDRESSES: Written requests, including your e-mail address, should be mailed to: David Fraser, Assistant Director for Research Administration, University of Wisconsin-Center for Tobacco Research and Intervention, 1930 Monroe Street, Suite 200, Madison, WI 53711-2027.

Automated Review Process

A computerized guideline review process enables comments to be entered on a special form designed for typed entry, documentation and consideration of all comments. The form will be sent by e-mail, with instructions, to those requesting the draft guideline update. To facilitate the review process, it is strongly recommended that reviewers use the computer form to record their comments. For technical assistance or questions regarding this input process, please follow the directions in the materials you receive.

FOR FURTHER INFORMATION CONTACT: For information on the PHS Treating Tobacco Use and Dependence Clinical Practice Guideline Update, please contact: CAPT Ernestine Murray, Project Officer, Agency for Healthcare Research and Quality (AHRQ), Center for Outcomes and Evidence, 540 Gaither Road, Room 6337, Rockville, MD 20850, Telephone: 301-427-1630, E-mail Address: ernestine.murray@ahrq.hhs.gov.

SUPPLEMENTARY INFORMATION: In July 2006 a private-sector panel of experts was convened by the Agencies of the Public Health Service to update the PHS Treating Tobacco Use and Dependence Clinical Practice Guideline to improve the effectiveness of smoking cessation activities. A public meeting was also held in June 2007 for the panel to receive comments and information relevant to the update of the PHS guideline. The panel also reviewed and synthesized the literature on the topic and drafted a set of conclusions and recommendations based on the best available scientific data and expert judgments. A draft of these conclusions and recommendations is now undergoing peer review by a substantial number of individuals and groups who are knowledgeable about clinical treatment of tobacco dependence.

With this notice, the panel and the PHS are also making the draft guideline available to other individuals who wish to provide written review comments. After review and evaluation of the comments received, the panel will make appropriate revisions to the current draft PHS guideline update and prepare the clinical practice guideline update on Treating Tobacco Use and Dependence. Potential reviewers should note that the PHS may disclose the names of the guideline reviewers at the same time the guideline is published. The PHS may also release review comments after the guideline is published. Generally, comments will not be attributed to specific reviewers. However, attribution may be necessary or useful to indicate the validity or reliability of particularly important comments.

Dated: September 21, 2007.
Carolyn M. Clancy,
Director.

[FR Doc. 07-4770 Filed 9-27-07; 8:45 am]

BILLING CODE 4160-90-M